NATIONAL SCIENCE FOUNDATION

Advisory Panel for Physiology and Ethology; Notice of Meeting

In accordance with the Federal Advisory Committee Act (Pub. L. 92-463, as amended), the National Science Foundation (NSF) announces the following meeting.

Name: Advisory Panel for Physiology and Ethology (1160).

Date and Time: April 12, 13, 14, 2000, 8:30 am-5:00 pm.

Place: NSF, Room 340, 4201 Wilson Blvd., Arlington, VA.

Type of Meeting: Part-Open.

Contact Person: John A. Byers, Program Director, Animal Behavior, Division of Integrative Biology and Neuroscience, Suite 685, National Science Foundation, 4201 Wilson Boulevard, Arlington, VA 22230, Telephone: (703) 306-1419.

Purpose of Meeting: To provide advice and recommendations concerning proposals submitted to NSF for financial support.

Minutes: May be obtained from the contact persons listed above.

Agenda: Open Session: April 14th, 2000, 9:00 am to 10:00 am. Discussion on research trends, opportunities and assessment procedures in Physiology and Ethology.

Closed Session: April 14th, 2000, 8:30 am-5:00 pm; April 13th, 8:30 am to 6:00 pm; April 14th, 8:30 am-9:00 am and 10:00 am-5:00 pm. To review and evaluate the Animal Behavior proposals as part of the selection process for awards.

Reasons for Closing: The proposals being reviewed include information of a proprietary or confidential nature, including technical information; financial data, such as salaries; and personal information concerning individuals associated with the proposals. These matters are exempt under 5 U.S.C. 552b(c), (4) and (6) of the Government in the Sunshine Act.

Dated: March 20, 2000.
Karen J. York,
Committee Meeting Officer.

[FR Doc. 00-7187 Filed 3-22-00; 8:45 am]

BILLING CODE 7555-01-M